SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before October 9, 2024.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: SBA is transforming how customers interact with the agency via the development of an online MySBA platform that will allow customers to see all their SBA products and services summarized in a single place. MySBA will also allow customers to quickly switch between existing and future SBA digital tools, like the MySBA Loan Portal and VetCert, with single credentials and one account. Finally, MySBA will highlight additional SBA products and services beneficial to them based on their customer or business information.

So the SBA can provide relevant information, customers may be asked to provide information that fall into three functional areas: Account Registration, Validation and Authentication, and Business Services.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-NEW.

Title: MySBA.

Description of Respondents: Current and likely customers of SBA programs.

SBA Form Number: N/A.

Estimated Number of Respondents: 4,500,000.

Estimated Annual Responses per Respondent: 1.

Estimated Annual Hour Burden per Respondent: 2 minutes.

Total Estimated Annual Hour Burden: 150,000 hours.

Curtis Rich,
Agency Clearance Officer.

[FR Doc. 2024-20249 Filed 9-6-24; 8:45 am]

BILLING CODE 8026-09-P